DEPARTMENT OF TRANSPORTATION

Federal Aviation Administration

14 CFR Part 39

[Docket No. FAA-2010-0041; Directorate Identifier 2009-NM-218-AD; Amendment 39-16392; AD 2010-17-02]

RIN 2120-AA64

Airworthiness Directives; Airbus Model A330-201, -202, -203, -223, -243, -301, -302, -303, -321, -322, -323, -341, -342, and -343 Airplanes, Model A340-211, -212, -213, -311, -312, and -313 Airplanes, and Model A340-541 and -642 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Several reports have recently been received of loose pneumatic quick-disconnect unions on Goodrich pitot probes P/N (part number) 0851HL. These may be the result of mis-torque of the affected unions at equipment manufacturing level. Investigations are still on-going to determine the root cause(s).

This condition, if not corrected, could lead to an air leak, resulting in incorrect total pressure measurement and consequent erroneous Calibrated Airspeed (CAS)/MACH parameters delivered by the Air Data Computer (ADC).

* * * * *

Loss or fluctuation of indicated airspeed could result in misleading information provided to the flightcrew. We are issuing this AD to require actions to correct the unsafe condition on these products.

DATES: This AD becomes effective September 22, 2010.

The Director of the Federal Register approved the incorporation by reference of certain publications listed in this AD as of September 22, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, FAA, Transport Airplane Directorate, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on January 21, 2010 (75 FR 3420). That NPRM proposed to correct an unsafe condition for the specified products.

Since that NPRM was issued, the European Aviation Safety Agency (EASA), which is the aviation authority for the Member States of the European Community, has issued EASA Airworthiness Directive 2009-0202R1, dated April 15, 2010 (referred to after this as “the MCAI”), to correct an unsafe condition for the specified products. (MCAI 2009-0202-E, dated September 21, 2009, and corrected September 22, 2009, was referred to in the NPRM.) The MCAI has been revised to exclude pitot probes marked with a red torque check-indicating mark. If the red indicating mark is on the pitot probe, it can be installed with no further action. The MCAI states:

Several reports have recently been received of loose pneumatic quick-disconnect unions on Goodrich pitot probes P/N (part number) 0851HL. These may be the result of mis-torque of the affected unions at equipment manufacturing level. Investigations are still on-going to determine the root cause(s).

This condition, if not corrected, could lead to an air leak, resulting in incorrect total pressure measurement and consequent erroneous Calibrated Airspeed (CAS)/MACH parameters delivered by the Air Data Computer (ADC).

As a precautionary measure, this AD requires a torque check of the pneumatic quick-disconnect union on certain Goodrich P/N 0851HL pitot probes and corrective action, depending on findings.

* * * * *

This AD [MCAI] is revised in order to exclude from the torque-check required by paragraph (4) of this AD those pitot probes marked with a red torque check-mark.

Loss or fluctuation of indicated airspeed could result in misleading information provided to the flightcrew. If the quick-disconnect union fitted on the pitot probe is not adequately torqued, the corrective action includes applying torque. You may obtain further information by examining the MCAI in the AD docket.

Revised Service Information

Airbus has issued All Operators Telexes (AOTs) A330-34A3235 (for Model A330-201, -202, -203, -223, -243, -301, -302, -303, -321, -322, -323, -341, -342, and -343 airplanes); A340-34A4241 (for Model A340-211, -212, -213, -311, -312, and -313 airplanes); and A340-34A5074 (for Model A340-541 and -642 airplanes); all Revision 02, all dated March 1, 2010. We have revised Table 1 of this AD to add Revision 02 of the AOTs as the appropriate source of service information for accomplishing the specified actions. We have also added a new Table 2 to this AD to give credit for accomplishing the actions using the previous issues of the AOTs.

Comments

We gave the public the opportunity to participate in developing this AD. We considered the comments received.

Support for NPRM

The Airline Pilots Association (ALPA) supports the intent of the NPRM and appreciates the opportunity to comment.

Request for Credit for Actions Accomplished Previously

Delta Airlines asks that the NPRM be revised to allow credit for either adequate torqueing of the pneumatic quick-disconnect union of each pitot probe for affected pitot probes, or updating the aircraft maintenance manual (AMM) to ensure that the pneumatic quick-disconnect union of each pitot probe is torqued properly during installation. Delta states that Airbus AOT A330-34A3235, Revision 02, dated March 1, 2010, specifies that for pitot probes that are still held as spares there are two choices of actions as noted above.

Delta also asks that the NPRM be revised to give credit for pitot probes remanufactured and returned to Delta by Goodrich on which the proposed requirements were done before Airbus AOT A330-32A3235 dated September 10, 2009, or Revision 1, dated September 21, 2009, were issued. Delta notes that those pitot probes were returned with adequate torque but do not have a torque check indicating mark (Airbus AOT A330-32A3235, Revision 02, dated March 1, 2010, adds a torque check indicating mark after the pitot probe is adequately torqued). Delta states that it was proactive in correcting any deficiencies by taking immediate corrective actions. Delta adds that an allowance for this method of compliance should be included in the NPRM to avoid processing an alternative method of compliance (AMOC).

We disagree with the commenter's request to give credit for pitot probes remanufactured by Goodrich because non-marked pitot probes may be unintentionally installed on the airplane without performing a proper torque check. However, under the provisions of paragraph (h) of the final rule, we will consider requests for approval of an alternative method of compliance for using specific pitot probes identified by an operator if sufficient data are submitted to substantiate that the pitot probes would provide an acceptable level of safety.

Regarding Delta's comment on spare parts, we have revised paragraph (g)(4) of this AD to give credit for installing parts that have the torque check indicating mark.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Explanation of Change to Costs of Compliance

Since issuance of the NPRM, we have increased the labor rate used in the Costs of Compliance from $80 per work-hour to $85 per work-hour. The Costs of Compliance information, below, reflects this increase in the specified hourly labor rate.

Costs of Compliance

We estimate that this AD will affect 47 products of U.S. registry. We also estimate that it will take about 1 work-hour per product to comply with the basic requirements of this AD. The average labor rate is $85 per work-hour. Based on these figures, we estimate the cost of the AD on U.S. operators to be $3,995, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-17-02 Airbus: Amendment 39-16392. Docket No. FAA-2010-0041; Directorate Identifier 2009-NM-218-AD.

Effective Date

(a) This airworthiness directive (AD) becomes effective September 22, 2010.

Affected ADs

(b) None.

Applicability

(c) This AD applies to the Airbus airplanes identified in paragraphs (c)(1), (c)(2), and (c)(3) of this AD; certificated in any category; all manufacturer serial numbers; with pitot probes having Goodrich part number (P/N) 0851HL, serial numbers 267328 through 270714 inclusive.

(1) Model A330-201, -202, -203, -223, -243, -301, -302, -303, -321, -322, -323, -341, -342, and -343 airplanes.

(2) Model A340-211, -212, -213, -311, -312, and -313 airplanes.

(3) Model A340-541 and -642 airplanes.

Subject

(d) Air Transport Association (ATA) of America Code 34: Navigation.

Reason

(e) The mandatory continued airworthiness information (MCAI) states:

Several reports have recently been received of loose pneumatic quick-disconnect unions on Goodrich pitot probes P/N (part number) 0851HL. These may be the result of mis-torque of the affected unions at equipment manufacturing level. Investigations are still on-going to determine the root cause(s).

This condition, if not corrected, could lead to an air leak, resulting in incorrect total pressure measurement and consequent erroneous Calibrated Airspeed (CAS)/MACH parameters delivered by the Air Data Computer (ADC).

As a precautionary measure, this AD requires a torque check of the pneumatic quick-disconnect union on certain Goodrich P/N 0851HL pitot probes and corrective action, depending on findings.

* * * * *

This AD [MCAI] is revised in order to exclude from the torque-check required by paragraph (4) of this AD those pitot probes marked with a red torque check-mark.

Loss or fluctuation of indicated airspeed could result in misleading information provided to the flightcrew. If the quick-disconnect union fitted on the pitot probe is not adequately torqued, the corrective action includes applying torque.

Compliance

(f) You are responsible for having the actions required by this AD performed within the compliance times specified, unless the actions have already been done.

Actions

(g) At the time specified, do the following actions.

(1) Within 14 days after the effective date of this AD: Perform a torque check of the pneumatic quick-disconnect union of each pitot probe having Goodrich P/N 0851HL, serial numbers 267328 through 270714 inclusive, to determine if the torque is adequate, in accordance with the instructions of the applicable service information specified in Table 1 of this AD. Before further flight, do all applicable corrective actions in accordance with the instructions of the applicable service information specified in Table 1 of this AD.

Table 1—Airbus Service Information
Airbus all operators telex— | Revision— | Dated—
A330-34A3235 (for Model A330-201, -202, -203, -223, -243, -301, -302, -303, -321, -322, -323, -341, -342, and -343 airplanes) | 02 | March 1, 2010.
A340-34A4241 (for Model A340-211, -212, -213, -311, -312, and -313 airplanes) | 02 | March 1, 2010.
A340-34A5074 (for Model A340-541 and -642 airplanes) | 02 | March 1, 2010.

(2) Within 30 days after performing the torque check required by paragraph (g)(1) of this AD, or within 30 days after the effective date of this AD, whichever occurs later: Report the torque check results to Airbus, including no findings, as specified in the instructions of the applicable service information listed in Table 1 of this AD.

(3) Actions done before the effective date of this AD, in accordance with the applicable service information listed in Table 2 of this AD, are acceptable for compliance with the corresponding requirements in paragraph (g)(1) of this AD.

Table 2—Airbus Credit Service Information
Airbus all operators telex— | Revision— | Dated—
A330-34A3235 | Original | September 10, 2009.
A330-34A3235 | 1 | September 21, 2009.
A340-34A4241 | Original | September 10, 2009.
A340-34A4241 | 1 | September 21, 2009.
A340-34A5074 | Original | September 10, 2009.
A340-34A5074 | 1 | September 21, 2009.

(4) As of the effective date of this AD, no person may install a pitot probe having Goodrich P/N 0851HL, serial numbers 267328 through 270714 inclusive, on any airplane, unless the actions required by paragraph (g)(1) of this AD have been done; or an intact red torque check mark is visible on the interface of the pnuematic quick disconnect union and the union mount.

FAA AD Differences

Note 1: This AD differs from the MCAI and/or service information as follows:

Where the MCAI includes a compliance time of “5 days,” we have determined that a compliance time of “within 14 days after the effective date of the AD” is appropriate. The manufacturer and EASA agree with this expansion in compliance time.

Other FAA AD Provisions

(h) The following provisions also apply to this AD:

(1) Alternative Methods of Compliance (AMOCs): The Manager, International Branch, ANM-116, FAA, Transport Airplane Directorate, has the authority to approve AMOCs for this AD, if requested using the procedures found in 14 CFR 39.19. Send information to ATTN: Vladimir Ulyanov, Aerospace Engineer, International Branch, ANM-116, FAA, Transport Airplane Directorate, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Airworthiness Directive 2009-0202R1, dated April 15, 2010; and the service information specified in Table 1 of this AD; for related information.

Material Incorporated by Reference

(j) You must use the service information contained in Table 3 of this AD, as applicable, to do the actions required by this AD, unless the AD specifies otherwise. (The document number, revision level, and date of these documents are listed only on the first page of these documents; no other page of these documents contains this information.)

Table 3—Material Incorporated by Reference
Airbus all operators telex— | Revision— | Dated—
A330-34A3235 | 02 | March 1, 2010.
A340-34A4241 | 02 | March 1, 2010.
A340-34A5074 | 02 | March 1, 2010.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on July 30, 2010.
Ali Bahrami,
Manager, Transport Airplane Directorate, Aircraft Certification Service.

[FR Doc. 2010-19701 Filed 8-17-10; 8:45 am]

BILLING CODE 4910-13-P